DEPARTMENT OF THE INTERIOR

Bureau of Land Management

[LLORB00000.L10200000.PH0000.L.X.SS.036H0000.13XL1109AF; HAG13-0151]

Notice of Public Meeting Cancellation

AGENCY: Bureau of Land Management, Interior.

ACTION: Notice of public meeting cancellation.

SUMMARY: The meeting of the Southeast Oregon Resource Advisory Council (RAC) scheduled for Monday, April 22, 2013, and Tuesday, April 23, 2013, is cancelled. The event is cancelled due to budget sequestration and will not be rescheduled.

DATES: April 22-23, 2013.

FOR FURTHER INFORMATION CONTACT: Tara Martinak, Public Affairs Specialist, BLM Burns District Office, 28910 Highway 20 West, Hines, Oregon 97738-9424, (541) 573-4519, or email tmartina@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The Southeast Oregon RAC consists of 15 members chartered and appointed by the Secretary of the Interior. Their diverse perspectives are represented in commodity, conservation, and general interests. They provide advice to BLM and Forest Service resource managers regarding management plans and proposed resource actions on public land in southeast Oregon.

Brendan Cain,
BLM Burns District Manager.

[FR Doc. 2013-06623 Filed 3-21-13; 8:45 am]

BILLING CODE 4310-33-P